FEDERAL COMMUNICATIONS COMMISSION

47 CFR Part 15

[ET Docket No. 13-49; DA 13-1388]

Unlicensed National Information Infrastructure (U-NII) Devices in the 5 GHz Band

AGENCY: Federal Communications Commission.

ACTION: Proposed rule; extension of comment period.

SUMMARY: This document extends the deadline for filing reply comments to the Notice of Proposed Rule Making (NPRM), released February 20, 2013. It is granted in response to requests to extend the reply comment period submitted by IEEE 802 and W-Fi Alliance. We find that good cause exist for an extension of the reply comment deadline to facilitate the development of a full and complete record.

DATES: Reply comments must be filed on or before July 24, 2013.

FOR FURTHER INFORMATION CONTACT: Aole Wilkins, Office of Engineering and Technology, (202) 418-2406, email: Aole.Wilkins@fcc.gov, TTY (202) 418-2989.

SUPPLEMENTARY INFORMATION: This is a summary of the Commission's Order, ET Docket No. 13-49; DA 13-1388, adopted June 17, 2013, and released June 17, 2013. The full text of this document is available for inspection and copying during normal business hours in the FCC Reference Center (Room CY-A257), 445 12th Street SW., Washington, DC 20554. The complete text of this document also may be purchased from the Commission's copy contractor, Best Copy and Printing, Inc., 445 12th Street SW., Room CY-B402, Washington, DC 20554. The full text may also be downloaded at: www.fcc.gov.

Summary of Order Granting Extension of Time for Filing Comment

1. On April 10, 2013, the Federal Register published the Commission's Notice of Proposed Rulemaking (“NPRM”), 78 FR 21320, April 10, 2013, in the above-captioned proceeding. That NPRM established a comment deadline of May 28, 2013 and a reply comment deadline of June 24, 2013. On June 4, 2013, IEEE 802 requested that the reply comment deadline be extended by 30 days because in reviewing the comments to date, they are concerned that there is insufficient time allocated to thoroughly review the record and provide reply comments by the current deadline. On June 6, 2013, the Wi-Fi Alliance also requested a 30 day extension of the reply comment date because it will allow interested parties the necessary time to adequately address the technical and policy questions raised in the NPRM and by numerous commenters in this proceeding. The Wi-Fi Alliance points out that the current reply comment filing deadline falls before both the 2013 Wi-Fi Alliance Member Meeting and IEEE 802's Plenary Session, and that the parties' reply comments will be better informed by the discussion of the issues raised in the NPRM and other parties' comments in their upcoming meetings.

2. As set forth in section 1.46(a) of the Commission's Rules, the Commission's policy is that extensions of time shall not be routinely granted. Given the importance of the issues in this proceeding, however, we find that good cause exists to provide all parties an extension of the reply comment deadline to facilitate the development of a full and complete record.

3. It is further ordered that the Motions for Extension of Time filed by IEEE 802 and Wi-Fi Alliance are granted.

4. This action is taken pursuant to Section 4(i), 4(j) and 5(c) of the Communications Act of 1934, as amended, 47 U.S.C. 154(i), 154(j), 155(c) and Sections 0.31, 0.241, and 1.46 of the Commission's rules, 47 CFR 0.31, 0.241, and 1.46, the deadline for filing reply comments in response to the Notice of Proposed Rulemaking in ET Docket No. 13-49 is extended to July 24, 2013.

Federal Communications Commission.
Bruce Romano,
Associate Chief, Office of Engineering and Technology.

[FR Doc. 2013-14760 Filed 6-20-13; 8:45 am]

BILLING CODE 6712-01-P